GENERAL SERVICES ADMINISTRATION

[OMB Control No. 3090-0277]

Office of Citizen Services and Communications; Market Research Collection

AGENCY: General Services Administration (GSA).

ACTION: Notice of request for comments on a new one-time collection.

SUMMARY: Under the provisions of the Paperwork Reduction Act of 1995 (44 U.S.C. chapter 35), the General Services Administration, has submitted to the Office of Management and Budget (OMB) a request to review and approve a new information collection requirement concerning Market Research for the Office of Citizen Services and Communications. A request for public comments was published at 67 FR 72690, December 6, 2002. No comments were received.

This information collection will be used to determine the utility and ease of use of GSA's Web site, GSA.gov. The respondents include individuals and representatives from businesses currently holding GSA contracts.

Public comments are particularly invited on: Whether this collection of information is necessary for the proper performance of the functions of the agency including whether it will have practical utility; whether our estimate of the public burden of this collection of information is accurate, and based on valid assumptions and methodology; ways to enhance the quality, utility, and clarity of the information to be collected, including through the use of automated collection techniques or other forms of information technology.

DATES: Submit comments on or before: April 2, 2003.

FOR FURTHER INFORMATION CONTACT: Dr. Sharon Holcombe, Office of Citizen Services and Communications, (202) 501-2719.

ADDRESSES: Submit comments regarding this burden estimate or any other aspect of this collection of information, including suggestions for reducing this burden to Ms. Jeanette Thornton, GSA Desk Officer, OMB, Room 10236, NEOB, Washington, DC 20503, and a copy to General Services Administration, Regulatory and Federal Assistance Publications Division (MVA), 1800 F Street, NW., Room 4035, Washington, DC 20405. Please cite OMB Control Number 3090-0277.

SUPPLEMENTARY INFORMATION:

A. Purpose

The purpose of this information collection is to inform the General Services Administration (GSA) on how to best provide service and relevance to the American public via GSA's Web site, GSA.gov. The information collected from an online survey, focus groups, and Web site usability testing, will be used to refine the GSA.gov Web site. The questions to be asked are non-invasive and do not address or probe sensitive issues. It is important for the GSA to gain information from the many diffuse groups it serves; therefore, the GSA will be questioning individuals and households, and businesses and other-for-profit groups.

B. Annual Reporting Burden

Respondents: 190.

Responses Per Respondent: 1.

Total Responses: 190.

Hours Per Response: 72.6 minutes.

Total Burden Hours: 230.

Obtaining Copies of Proposals: Requesters may obtain a copy of the information collection documents from the General Services Administration, Regulatory and Federal Assistance Publications Division (MVA), 1800 F Street, NW., Room 4035, Washington, DC, 20405, telephone (202) 208-7312, or by faxing your request to (202) 501-4067. Please cite OMB Control No. 3090-0277, Market Research Collection for the Office of Citizen Services and Communication, in all correspondence.

Dated: February 24, 2003.
Susan White,
Deputy Chief Information Officer.

[FR Doc. 03-4827 Filed 2-28-03; 8:45 am]

BILLING CODE 6820-CX-P